DEPARTMENT OF LABOR

Occupational Safety and Health Administration

Federal Advisory Council on Occupational Safety and Health; Notice of Meeting

Notice is hereby given of the date and location of the next meeting of the Federal Advisory Council on Occupational Safety and Health (FACOSH), established under Section 1-5 of Executive Order 12196 of February 26, 1980, published in the Federal Register, February 27, 1980 (45 FR 1279). FACOSH will meet on February 11, 2000 starting at 1:30 p.m., in Rooms 9 and 10 of the Bureau of Labor Statistics (BLS) Conference Center at the Postal Square Building at Two Massachusetts Avenue, NE, (First Street Entrance Only), Washington, DC 20212. The meeting will adjourn at approximately 3:30 p.m., and will be open to the public. All persons wishing to attend this meeting must exhibit a photo identification to security personnel.

Agenda items will include:

1. Call to Order

2. Federal Safety and Health Councils

3. Federal Safety and Health Conference Overview

4. OSHA Issues/Updates

5. Reports by Subcommittees

6. New Business

7. Adjournment

Written data, views or comments may be submitted, preferably with 20 copies, to the Office of Federal Agency Programs, at the address provided below. All such submissions, received by February 8, 2000, will be provided to the members of the Council and will be included in the record of the meeting. Anyone wishing to make an oral presentation should notify the Office of Federal Agency Programs by close of business February 8, 2000. The request should state the amount of time desired, the capacity in which the person will appear and a brief outline of the content of the presentation. Persons who request the opportunity to address the Advisory Council may be allowed to speak, as time permits, at the discretion of the Chairperson of the Advisory Council. Individuals with disabilities who wish to attend the meeting should contact John E. Plummer at the address indicated below, if special accommodations are needed.

For additional information, please contact John E. Plummer, Director, Office of Federal Agency Programs, U.S. Department of Labor, Occupational Safety and Health Administration, Room N3112, 200 Constitution Avenue, NW, Washington, DC 20210, TEL: (202) 693-2122. An official record of the meeting will be available for public inspection at the Office of Federal Agency Programs.

Signed at Washington, DC, this 27th day of January 2000.
Charles N. Jeffress,
Assistant Secretary of Labor for Occupational Safety and Health.

[FR Doc. 00-2120 Filed 1-31-00; 8:45 am]

BILLING CODE 4510-26-M